DEPARTMENT OF COMMERCE

International Trade Administration

[A-570-983]

Drawn Stainless Steel Sinks From the People's Republic of China: Partial Rescission of Antidumping Duty Administrative Review; 2017—2018

AGENCY: Enforcement and Compliance, International Trade Administration, Department of Commerce.

SUMMARY: The Department of Commerce (Commerce) is partially rescinding its administrative review of the antidumping duty (AD) order on drawn stainless steel sinks (drawn sinks) from the People's Republic of China (China) for the period of review (POR) April 1, 2017, through March 31, 2018.

DATES: Applicable October 18, 2018.

FOR FURTHER INFORMATION CONTACT: Joshua Tucker, Enforcement and Compliance, International Trade Administration, U.S. Department of Commerce, 1401 Constitution Avenue NW, Washington, DC 20230; telephone: (202) 482-2044.

SUPPLEMENTARY INFORMATION:

Background

On April 2, 2018, Commerce published in the Federal Register a notice of “Opportunity to Request Administrative Review” of the AD order on drawn sinks from China for the POR.¹

¹ See Antidumping or Countervailing Duty Order, Finding, or Suspended Investigation; Opportunity to Request Administrative Review, 83 FR 13949 (April 2, 2018).

In April 2018, Commerce received multiple timely requests to conduct an administrative review of the AD order on drawn sinks from China.

On June 6, 2018, in accordance with section 751(a) of the Tariff Act of 1930, as amended (the Act), Commerce published in the Federal Register a notice of initiation of an administrative review of the AD order.² The administrative review was initiated with respect to 31 companies, and covers the period April 1, 2017, through March 31, 2018. Subsequent to the initiation of the administrative review, the petitioner in this proceeding, Elkay Manufacturing Company, timely withdrew its review requests for 18 of these companies, as discussed below.

² See Initiation of Antidumping and Countervailing Duty Administrative Reviews, 83 FR 26258 (June 6, 2018) (Initiation Notice).

Partial Rescission of Review

Pursuant to 19 CFR 351.213(d)(1), Commerce will rescind an administrative review, in whole or in part, if a party that requested a review withdraws its request within 90 days of the date of publication of the notice of initiation of the requested review. The petitioner withdrew its request for an administrative review of the following companies within 90 days of the date of publication of the Initiation Notice: ³ Foshan Shunde MingHao Kitchen Utensils Co., Ltd.; Foshan Zhaoshun Trade Co., Ltd.; Franke Asia Sourcing Ltd.; Grand Hill Work Company; Guandong Dongyuan Kitchenware Industrial Co., Ltd.; Guandong Yingao Kitchen Utensils Co., Ltd.; Hangzhou Heng's Industries Co., Ltd.; Hubei Foshan Success Imp & Exp Co. Ltd.; J&C Industries Enterprise Limited; Jiangmen Hongmao Trading Co., Ltd.; Jiangxi Zoje Kitchen & Bath Industry Co., Ltd.; Ningbo Oulin Kitchen Utensils Co., Ltd.; Primy Cooperation Limited; Shenzhen Kehuaxing Industrial Ltd.; Shunde Foodstuffs Import & Export Company Limited of Guangdong; Shunde Native Produce Import and Export Co., Ltd. of Guangdong; Zhongshan Newecan Enterprise Development Corporation; and Zhongshan Silk Imp. & Exp. Group Co., Ltd. of Guangdong. Accordingly, Commerce is rescinding this review, in part, with respect to these companies, in accordance with 19 CFR 353.213(d)(1).⁴

³ See Letter from the Petitioner, “Re: Drawn Stainless Steel Sinks from the People's Republic of China: Notice of Partial Withdrawal of Request for Administrative Review,” dated August 2, 2018.

⁴ Commerce no longer considers the non-market economy entity as an exporter conditionally subject to administrative reviews. See Antidumping Proceedings; Announcement of Change in Department Practice for Respondent Selection in Antidumping Duty Proceedings and Conditional Review of the Nonmarket Economy Entity in NME Antidumping Duty Proceedings, 78 FR 65963 (November 3, 2013).

The instant review will continue with respect to the following companies: B&R Industries Limited; Elkay (China) Kitchen Solutions, Co., Ltd.; Feidong Import and Export Co., Ltd.; Guangdong G-Top Import and Export Co., Ltd.; Guangdong New Shichu Import & Export Company Limited; Jiangmen New Star Hi-Tech Enterprise Ltd.; Jiangmen Pioneer Import & Export Co., Ltd.; KaiPing Dawn Plumbing Products, Inc.; Ningbo Afa Kitchen and Bath Co., Ltd.; Xinhe Stainless Steel Products Co., Ltd.; Yuyao Afa Kitchenware Co., Ltd; Zhongshan Superte Kitchenware Co., Ltd.; and Zhuhai Kohler Kitchen & Bathroom Products Co., Ltd.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions directly to CBP 15 days after the date of publication of this notice in the Federal Register.

Notification to Importers

This notice serves as the only reminder to importers whose entries will be liquidated as a result of this rescission notice, of their responsibility under 19 CFR 351.402(f)(2) to file a certificate regarding the reimbursement of antidumping duties and/or countervailing duties prior to liquidation of the relevant entries during this review period. Failure to comply with this requirement may result in the presumption that reimbursement of antidumping duties and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: October 12, 2018.
James Maeder,
Associate Deputy Assistant Secretary for Antidumping and Countervailing Duty Operations performing the duties of Deputy Assistant Secretary for Antidumping and Countervailing Duty Operations.

[FR Doc. 2018-22719 Filed 10-17-18; 8:45 am]

BILLING CODE 3510-DS-P